DEPARTMENT OF AGRICULTURE

Agricultural Marketing Service

[Docket # AMS-LS-07-0055; LS-07-06]

Pork Promotion, Research, and Consumer Information Program: Request for Referendum

AGENCY: Agricultural Marketing Service, USDA.

ACTION: Notice of Request for Referendum; request for comments on new information collection.

SUMMARY: The United States Department of Agriculture's (USDA) Agricultural Marketing Service (AMS) intends to conduct a Request for Referendum among eligible pork producers and importers of hogs, pigs, pork, and pork products to determine if those persons want a referendum on the Pork Promotion, Research, and Consumer Information Order (Order), commonly known as the Pork Checkoff Program, as authorized by the Pork Promotion, Research, and Consumer Information Act of 1985.

The Request for Referendum is being conducted as a result of a settlement of a lawsuit entered into February 28, 2001, with USDA and the Michigan Pork Producers Association, Inc., et al. (Plaintiffs). Under the settlement agreement, USDA will conduct a Request for Referendum among eligible pork producers and importers to determine whether producers and importers favor holding a referendum on the Pork Checkoff Program. Eligible producers and importers will be able to participate during a specified period announced by USDA.

If the Request for Referendum indicates that 15 percent of the total number of eligible producers and importers want a referendum on the Pork Checkoff Program, the referendum will be conducted within 1 year after the results of the Request for Referendum are announced. If results of the Request for Referendum indicate that a referendum is not supported, a referendum would not be conducted.

AMS also is withdrawing in this issue of the Federal Register, the proposed rule concerning submission of information that was published on March 13, 2003 [68 FR 11996].

DATES: Pursuant to the Paperwork Reduction Act of 1995 (PRA), comments on the information collection burden that would result from this Notice must be received by July 22, 2008.

ADDRESSES: Comments on the Information Collection must be posted online at http://www.regulations.gov or sent to Kenneth R. Payne, Chief, Marketing Programs, Livestock and Seed Program, AMS, USDA, Room 2628-S, STOP 0251, 1400 Independence Avenue, SW., Washington, DC 20250-0251; Telephone: (202) 720-1115; Fax: (202) 720-1125. Comments will be made available for public inspection at the above address during regular business hours or via the Internet at http://www.regulations.gov. All comments should reference the docket number, Docket No. AMS-LS-07-0055; LS-07-06, the date, and the page number of this issue of the Federal Register. Pursuant to the PRA, send comments regarding the accuracy of the burden estimate; ways to minimize the burden, including the use of automated collection techniques or other forms of information technology; or any other aspect of this information collection to the above address.

In addition, comments concerning the information collection should be sent to the Desk Officer for Agriculture, Office of Information and Regulatory Affairs, Office of Management and Budget, New Executive Office Building, 725 17th St., NW., Room 725, Washington, DC 20503.

FOR FURTHER INFORMATION CONTACT: Kenneth R. Payne, Chief, Marketing Programs Branch, at (202) 720-1115, by fax at (202) 720-1125, or by e-mail at Kenneth.Payne@usda.gov.

SUPPLEMENTARY INFORMATION: The Pork Promotion, Research, and Consumer Information Act of 1985 (Act) (7 U.S.C. 4801-4819) provides for the establishment of a coordinated program of promotion and research designed to strengthen the pork industry's position in the marketplace and to maintain and expand domestic and foreign markets and uses for pork and pork products. The program is financed by an assessment of 0.40 percent of the market value of domestic and imported hogs and pigs and an equivalent amount on imported pork and pork products. Pursuant to the Act, an Order was made effective September 5, 1986, and the collection of assessments began on November 1, 1986.

The Request for Referendum is being conducted as a result of a settlement of a lawsuit entered into February 28, 2001, with USDA and the Plaintiffs. On February 28, 2001, USDA entered into a settlement agreement with the Plaintiffs that was based on the guiding principle that the National Pork Board should operate independently of the National Pork Producers Council, and any successor or similar organization, while the Pork Checkoff Program is in effect. Under the settlement agreement, USDA will conduct a Request for Referendum among eligible pork producers and importers to determine whether 15 percent of those eligible producers and importers want a referendum on the Pork Checkoff Program. If the requisite number of producers and importers request a referendum, it would be conducted within 1 year from the date the results of the Request for Referendum are announced. If these requirements are not met, a referendum will not be conducted.

For the purposes of determining the total number of pork producers for the Request for Referendum, AMS will utilize the most recent data published by National Agricultural Statistics Service (NASS) in its February 2008, “Farms, Land in Farms, and Livestock Operations” report. The report shows that, for the year of 2007, the total number of farm operations with hogs and pigs, including those in Puerto Rico, was 67,140. Also, according to the U.S. Customs and Border Protection (Customs) data, there are approximately 2,306 importers who imported hogs, pigs, pork, or pork products during calendar year 2007. Based upon this data, the number of producers and importers who would be eligible to participate in the Request for Referendum is approximately 69,446.

AMS will conduct the Request for Referendum during a 4-week period announced by the Secretary sometime in 2008. Producers who were engaged in pork production and importers engaged in the importation of hogs, pigs, pork, or pork products between January 1, 2007, and December 31, 2007, will be eligible to participate. Producers will be afforded the opportunity to participate in the Request for Referendum through county Farm Service Agency (FSA) offices. Using FSA offices to support the Request for Referendum process will allow for the greatest opportunity for those eligible producers to participate. FSA would coordinate State and county FSA roles in conducting the Request for Referendum by (1) confirming producer eligibility, (2) canvassing and counting requests, and (3) reporting the results to AMS.

Importers will be afforded the opportunity to participate in the Request for Referendum through the USDA's Agricultural Marketing Service (AMS). Importers would request a form by telephone, fax, or e-mail from USDA's AMS Marketing Programs Branch. Completed form LS 54-1, Customs Form 7501, or any other supporting documentation as needed, should be returned via fax or e-mail to the same office. AMS will determine importer eligibility.

Finally, given the above, AMS is withdrawing the proposed rule concerning submission of information that appeared in the March 13, 2003 [68 FR 11996], issue of the Federal Register. The proposed rule was designed to better identify the number of eligible producers from whom assessments were collected. AMS intended to use this information to establish the total number of pork producers that would be utilized in determining whether the 15 percent threshold requirement contained in the Act for conducting a referendum had been met. Further, that information could have been used in subsequent referenda to determine the number of eligible producers. Upon further review, AMS determined that utilizing the most recent 2007 data published by NASS in its February 2008 “Farms, Land in Farms, and Livestock Operations” report to determine the total number of farm operations with hogs and pigs, and 2007 Customs data to determine the total number of importers who imported hogs, pigs, pork, or pork products, would result in the most accurate information available.

AMS has developed the following Q & A's to better understand the purpose and procedures of the Request for Referendum.

Why is AMS conducting the Request for Referendum?

The Request for Referendum is being conducted as a result of a settlement of a lawsuit entered into February 28, 2001, between the Michigan Pork Producers and of the Plaintiffs and USDA. In order to fulfill their obligations under the settlement agreement, USDA will conduct a Request for Referendum among eligible pork producers and importers to determine whether producers and importers favor holding a referendum on the Pork Checkoff Program.

When will the Request for Referendum be conducted?

AMS anticipates conduct of the Request for Referendum during a 4-week period established by the Secretary in 2008 and will announce the starting date in the Federal Register and by a nationwide press release.

Who is eligible to participate?

Persons engaged in the production of hogs or pigs in the United States for sale in commerce and importers engaged in the importation of hogs, pigs, pork or pork products. Participation is voluntary and will indicate that participant desires a referendum on the Pork Checkoff Program. Only those persons who desire a referendum on the Pork Checkoff Program would participate.

What are the eligibility criteria?

Producers and importers must (1) have been engaged in the production of hogs or pigs in the United States for sale in commerce or importation of hogs, pigs, pork or pork products between January 1, 2007, and December 31, 2007, and, (2) be at least 18 years of age on or before December 31, 2007.

Will contract growers be allowed to participate?

AMS has determined that contract growers, who do not own, but do raise, provide care, and feed hogs and pigs for owner, including a parent company, will be allowed to participate in the Request for Referendum. Since these contract growers produce hogs and pigs for sale in commerce and their livelihoods depend on raising hogs and pigs, they are considered producers for purposes of this Request for Referendum and will be eligible to participate.

What is the eligible age for producers and importers?

In order to remain consistent with other USDA agencies, such as the FSA, AMS has also determined that individuals must be of legal voting age in order to participate. This is also consistent with the 2008 NASS report, “Farms, Land in Farms, and Livestock Operations,” which reports a total number of farm operations with hogs and pigs that includes contract growers but excludes youth projects.

What proof or supporting documentation must be submitted to FSA?

Producers must submit completed form LS 54-1 and supporting documentation, including sales receipts, feed and veterinary bills, etc.* * *, to the appropriate county FSA office as proof of eligibility. Importers must submit completed form LS 54-1, Customs Form 7501, and any other supporting documentation as needed, that demonstrates the importation of hogs, pigs, pork, or pork products as proof of eligibility. Participants will also have to certify this information on an official form.

Where do producers and importers participate?

Producers will participate at the county FSA office where FSA maintains and processes the producer's administrative farm records or at the county FSA office serving the county where the producer owns or rents land. A person engaged in production of hogs or pigs in the United States for sale in commerce who operates in more than one county will participate in the county FSA office where the person does most of his or her business. Importers will participate through USDA's AMS. Importers may obtain and return the LS-54-1 form through the Marketing Programs Branch, Livestock and Seed Program, AMS, USDA or via the Internet at http://www.ams.usda.gov/LSMarketingPrograms.

Where do I obtain Form LS-54-1?

Producers: Form LS-54-1 may be obtained by mail, fax, or in person from the county FSA offices or on USDA's Web site at http://www.ams.usda.gov/LSMarketingPrograms.

Importers: Form LS-54-1 may be obtained via mail, facsimile, or telephone from Kenneth R. Payne, Chief, Marketing Programs, Livestock and Seed Program, AMS, USDA, Room 2628-S, STOP 0251, 1400 Independence Avenue, SW., Washington, DC 20250-0251; Telephone: 202-720-1115; Fax: (202) 720-1125; via e-mail at Kenneth.Payne@usda.gov; or via the Internet at http://www.ams.usda.gov/LSMarketingPrograms.

Where do I return Form LS-54-1?

Producers: Completed form LS 54-1 and supporting documentation must be returned to the county FSA office where FSA maintains and processes the producer's administrative farm records, or at the county FSA office serving the county where the producer owns or rents land. A producer engaged in production of hogs or pigs in the United States for sale in commerce who operates in more than one county will participate in the county FSA office where the producer conducts most of his or her business. Completed form and supporting documentation, such as sales receipts, feed and veterinary bills, etc. * * *, must be returned to county FSA offices by fax or in person no later than the last day of voting period or, if returned by mail, they must be postmarked by the last day of the voting period.

Importers: Completed form LS 54-1, Customs Form 7501, and supporting documentation as needed must be returned to AMS by fax at (202) 720-1125, or in person no later than the last day of voting period or, if returned by mail, they must be postmarked by the last day of the voting period. Importers must use a form of express mail service if returning forms via mail to Kenneth R. Payne, Chief, Marketing Programs, Livestock and Seed Program, AMS, USDA, Room 2628-S, STOP 0251, 1400 Independence Avenue, SW., Washington, DC 20250-0251.

How do I locate the nearest county FSA office?

Eligible producers can determine the location of county FSA offices by contacting the nearest county FSA office, the State FSA office, or on FSA's Web site at http://www.fsa.usda.gov/pas/default.asp. From the options available on this Web page select “Contact Us” and locate the service center closest to you. Some county FSA offices service multiple counties.

What is FSA's role in the Request for Referendum?

FSA will coordinate State and county FSA roles in conducting the Request for Referendum by (1) Confirming producer eligibility, (2) canvassing and counting requests, and (3) reporting the results to AMS.

What action will cause a referendum?

If the Request for Referendum indicates that 15 percent of the total number of eligible producers and importers want a referendum on the Pork Checkoff Program, it will be conducted within 1 year after the results of the survey are announced. If results of the Request for Referendum indicate that a referendum is not supported, a referendum would not be conducted.

Paperwork Reduction Act

Form LS 54-1 is being submitted to the Office of Management and Budget for approval to determine if producers and importers want a referendum.

In accordance with the PRA [44 U.S.C. 3501 et seq.], this notice announces that AMS is requesting approval from the Office of Management and Budget (OMB) for a new information collection.

Title: Pork Promotion, Research, and Consumer Information Program Procedures to Hold a Request for Referendum.

OMB Number: 0581-NEW.

Estimate of Burden: Public reporting burden for this collection of information is estimated to average .2 hours per response.

Respondents: Pork producers and importers.

Estimated Number of Respondents: 7,500.

Estimated Number of Responses per Respondent: 1.

Estimated Total Annual Burden on Respondents: 1,500 total hours.

Abstract: The purpose of this Notice is to provide producers and importers who have been engaged in pork production in the United States for sale in commerce or the importation of hogs, pigs, pork or pork products the opportunity to participate in a nationwide Request for Referendum. This Notice will require eligible producers and importers to complete Form LS-54-1 in its entirety. The form will require signature to certify that the signatory either is in the business of producing hogs and pigs in the United States for sale in commerce or in the business of importing hogs, pigs, pork or pork products into the United States. In addition, participants must be 18 years of age or older prior to the conclusion of the representative period. Participating in the Request for Referendum is voluntary and will indicate that participant desires a referendum on the Pork Checkoff Program. Only those producers or importers who want a referendum on the Pork Checkoff Program should participate. Producers must submit completed form LS 54-1 and supporting documentation, including sales receipts, feed and veterinary bills, etc.* * *, as proof of eligibility. Importers must submit completed form LS 54-1, Customs Form 7501, or any other supporting documentation as needed that demonstrates the importation of hogs, pigs, pork, or pork products as proof of eligibility.

Comments are invited on: (a) Whether the proposed collection of information is necessary for the proper performance of functions of the proposed Order and the USDA's oversight of the program, including whether the information will have practical utility; (b) the accuracy of USDA's estimate of the burden of the proposed collection of information, including the validity of the methodology and assumption used; (c) ways to enhance the quality, utility, and clarity of the information to be collected; and (d) ways to minimize the burden of the collection of information on those who are to respond, including the use of appropriate automated, electronic, mechanical, or other technological collection techniques or other forms of information technology.

Dated: May 16, 2008.
Lloyd C. Day,
Administrator, Agricultural Marketing Service.

[FR Doc. E8-11554 Filed 5-22-08; 8:45 am]

BILLING CODE 3410-02-P